DEPARTMENT OF TRANSPORTATION

National Highway Traffic Safety Administration

49 CFR Part 571

[DOT Docket No. NHTSA-01-8885; Notice 2]

RIN 2127-AH81

Glare From Headlamps and Other Front Mounted Lamps Federal Motor Vehicle Safety Standard No. 108; Lamps, Reflective Devices, and Associated Equipment

AGENCY: National Highway Traffic Safety Administration (NHTSA), DOT.

ACTION: Reopening of comment period for a notice of request for comment.

SUMMARY: This document reopens the comment period on a notice of request for comment on the issue of glare from the front of motor vehicles at night.

DATES: Comments on DOT Docket No. NHTSA-01-8885 must be received by January 28, 2002.

ADDRESSES: Comments should refer to DOT Docket No. NHTSA-01-8885 and be submitted to: Docket Management, Room PL-401, 400 Seventh Street, SW., Washington, DC, 20590.

You may call the Docket at 202-366-9324. You may visit the Docket from 10 a.m. to 5 p.m., Monday through Friday, except on Federal holidays.

FOR FURTHER INFORMATION CONTACT: Mr. Richard L. Van Iderstine, Office of Crash Avoidance Standards at (202) 366-5275. His Fax number is (202) 366-4329.

SUPPLEMENTARY INFORMATION: On September 28, 2001, we (NHTSA) published in the Federal Register (66 FR 49594) a notice of notice of request for comment on the issues related to glare produced by lamps mounted on the fronts of vehicles. This document had a comment due date of November 27, 2001.

In a letter dated November 8, 2001, North American Lighting, Inc., (NAL) asked for an extra 60 days to comment on the Notice. NAL stated that the 46 questions asked in the Notice were substantially complicated by asking for explanations. NAL stated that many would require searching company records and/or performing additional testing to provide an accurate response. It stated that there is often a 30-day lead time for scheduling laboratory testing, and for scheduling staff work loads. NAL added that with the lean times for the industry, resources are already overcommitted in the effort to forestall workforce reductions. It stated that the extra 60 days would allow it to perform the supporting research and testing to thoroughly answer the questions posed to it in the Notice, while reducing the imposition of the workforce in the forthcoming holiday period.

In a letter dated November 9, 2001, the Advocates for Highway and Auto Safety (Advocates) asked for an extra 30 days to comment on the Notice. Advocates stated that the topics covered by this notice were so extensive that it would be impossible to provide a comprehensive response in a timely fashion. It stated further, that because of the overarching importance of driver safety and adequate nighttime illumination afforded by headlighting, it believes that additional time for comment is justified.

Additionally, because of recent events that have caused disruptions in United States Postal Service deliveries of mail to the Department of Transportation's Docket Management System, the following notice was placed on that System's homepage on October 25, 2001. “NEW MAIL DELIVERY/DOCUMENT FILING PROCEDURES. Currently, the Department of Transportation (DOT) is not receiving United States Postal Service (USPS) deliveries. It is unclear how long this will continue. We wish to advise the public that we will take this into account, with respect to DOT rulemakings documents that have comment periods that may close before mail delivery resumes. We will do everything that we can to ensure that we consider comments that would otherwise have been received before the close of the comment period. (For example, we generally have the authority to consider late-filed comments and will do so to the extent that we can; we will also take note of the date of the postmark for late-filed comments.)

* * * * *

“Although U.S. mail delivery by the USPS is not being accepted, deliveries are accepted from alternate delivery carriers. * * *

“Where appropriate, filers are encouraged to use the Electronic Submission System on the Dockets web page (dms.dot.gov) by clicking on ES Submit and following the online instructions.”

Because we agree with the two petitioners and because of the events temporarily ending mail delivery, we have decided that it is in the public interest to grant these requests. Accordingly, the public comment closing date for DOT Docket NHTSA-01-8885 is reopen from November 27, 2001 to Monday, January 28, 2002.

Authority: 49 U.S.C. 322, 30111, 30115, 30117, and 30166; delegation of authority at 49 CFR 1.50 and 501.8.

Issued on: November 26, 2001.
Stephen R. Kratzke,
Associate Administrator for Safety Performance Standards.

[FR Doc. 01-29762 Filed 11-29-01; 8:45 am]

BILLING CODE 4910-59-P